DEPARTMENT OF ENERGY

Federal Energy Regulatory Commission

Combined Notice of Filings #1

Take notice that the Commission received the following exempt wholesale generator filings:

Docket Numbers: EG23-273-000.

Applicants: Five Wells Solar Center LLC.

Description: Five Wells Solar Center LLC submits Notice of Self-Certification of Exempt Wholesale Generator Status.

Filed Date: 9/1/23.

Accession Number: 20230901-5029.

Comment Date: 5 p.m. ET 9/22/23.

Docket Numbers: EG23-274-000.

Applicants: Hopkins Energy LLC.

Description: Hopkins Energy LLC submits Notice of Self-Certification of Exempt Wholesale Generator Status.

Filed Date: 9/1/23.

Accession Number: 20230901-5038.

Comment Date: 5 p.m. ET 9/22/23.

Docket Numbers: EG23-275-000.

Applicants: Myrtle Storage, LLC.

Description: Myrtle Storage, LLC submits Notice of Self-Certification of Exempt Wholesale Generator Status.

Filed Date: 9/1/23.

Accession Number: 20230901-5086.

Comment Date: 5 p.m. ET 9/22/23.

Docket Numbers: EG23-276-000.

Applicants: Mammoth North LLC.

Description: Mammoth North LLC submits Notice of Self-Certification of Exempt Wholesale Generator Status.

Filed Date: 9/1/23.

Accession Number: 20230901-5134.

Comment Date: 5 p.m. ET 9/22/23.

Take notice that the Commission received the following Complaints and Compliance filings in EL Dockets:

Docket Numbers: EL23-96-000.

Applicants: New York Power Authority.

Description: Petition for Declaratory Order New York Power Authority Propel NY Energy Alternate Solution 5 Project.

Filed Date: 8/28/23.

Accession Number: 20230828-5437.

Comment Date: 5 p.m. ET 9/27/23.

Take notice that the Commission received the following electric rate filings:

Docket Numbers: ER18-2358-008.

Applicants: GridLiance High Plains LLC, Southwest Power Pool, Inc.

Description: Compliance filing: Southwest Power Pool, Inc. submits tariff filing per 35: GridLiance—Amended Compliance Filing in Response to Order issued in ER18-2358 to be effective 2/1/2019.

Filed Date: 9/1/23.

Accession Number: 20230901-5078.

Comment Date: 5 p.m. ET 9/22/23.

Docket Numbers: ER22-962-005.

Applicants: PJM Interconnection, L.L.C.

Description: Compliance filing: Order No. 2222 Compliance Filing to be effective 2/2/2026.

Filed Date: 9/1/23.

Accession Number: 20230901-5130.

Comment Date: 5 p.m. ET 9/22/23.

Docket Numbers: ER23-1783-001.

Applicants: New York Independent System Operator, Inc.

Description: Compliance filing: NYISO Compliance Filing Errata re: Order 676-J NAESB/WEQ Standards to be effective 12/31/9998.

Filed Date: 9/1/23.

Accession Number: 20230901-5075.

Comment Date: 5 p.m. ET 9/22/23.

Docket Numbers: ER23-2212-001.

Applicants: New York Independent System Operator, Inc., Consolidated Edison Company of New York, Inc.

Description: Tariff Amendment: Consolidated Edison Company of New York, Inc. submits tariff filing per 35.17(b): Con Edison Deficiency Response re: FR Template and Protocols in RS 10 and 19 to be effective 8/22/2023.

Filed Date: 9/1/23.

Accession Number: 20230901-5079.

Comment Date: 5 p.m. ET 9/22/23.

Docket Numbers: ER23-2330-001.

Applicants: Upper Missouri G. & T. Electric Cooperative, Inc.

Description: Tariff Amendment: Amend Administrative Filing Correct Tariff Records ER23-2330 to be effective 7/1/2022.

Filed Date: 9/1/23.

Accession Number: 20230901-5001.

Comment Date: 5 p.m. ET 9/22/23.

Docket Numbers: ER23-2753-000.

Applicants: Arizona Public Service Company.

Description: § 205(d) Rate Filing: Service Agreement Nos. 218 and 335 to be effective 10/31/2023.

Filed Date: 8/31/23.

Accession Number: 20230831-5232.

Comment Date: 5 p.m. ET 9/21/23.

Docket Numbers: ER23-2754-000.

Applicants: West Penn Power Company, PJM Interconnection, L.L.C.

Description: § 205(d) Rate Filing: West Penn Power Company submits tariff filing per 35.13(a)(2)(iii: WPP submits Amended Operating and Interconnection Agreement, SA No. 4976 to be effective 10/30/2023.

Filed Date: 8/31/23.

Accession Number: 20230831-5237.

Comment Date: 5 p.m. ET 9/21/23.

Docket Numbers: ER23-2755-000.

Applicants: Jersey Central Power & Light Company, Mid-Atlantic Interstate Transmission, LLC, Metropolitan Edison Company, PJM Interconnection, L.L.C.

Description: § 205(d) Rate Filing: Jersey Central Power & Light Company submits tariff filing per 35.13(a)(2)(iii: FE submits Amended OIAs, Service Agreement Nos. 6409, 6410, 6411 to be effective 10/31/2023.

Filed Date: 8/31/23.

Accession Number: 20230831-5247.

Comment Date: 5 p.m. ET 9/21/23.

Docket Numbers: ER23-2756-000.

Applicants: New England Power Pool Participants Committee.

Description: § 205(d) Rate Filing: Sep 2023 Membership Filing to be effective 8/1/2023.

Filed Date: 8/31/23.

Accession Number: 20230831-5255.

Comment Date: 5 p.m. ET 9/21/23.

Docket Numbers: ER23-2757-000.

Applicants: PJM Interconnection, L.L.C.

Description: § 205(d) Rate Filing: Amendment to ISA/CSA, SA Nos. 4904/4952; Queue No. AA2-119/AC1-055/AD2-192 to be effective 11/1/2023.

Filed Date: 9/1/23.

Accession Number: 20230901-5010.

Comment Date: 5 p.m. ET 9/22/23.

Docket Numbers: ER23-2758-000.

Applicants: Pacific Gas and Electric Company.

Description: § 205(d) Rate Filing: Revisions to TO20 Formula Rate Model References to be effective 11/1/2023.

Filed Date: 9/1/23.

Accession Number: 20230901-5063.

Comment Date: 5 p.m. ET 9/22/23.

Docket Numbers: ER23-2759-000.

Applicants: Mammoth North LLC.

Description: Baseline eTariff Filing: Baseline new to be effective 10/31/2023.

Filed Date: 9/1/23.

Accession Number: 20230901-5092.

Comment Date: 5 p.m. ET 9/22/23.

Docket Numbers: ER23-2760-000.

Applicants: Omnis Pleasants, LLC.

Description: Compliance filing: Notice of Succession and Request for Waiver to be effective 8/14/2023.

Filed Date: 9/1/23.

Accession Number: 20230901-5095.

Comment Date: 5 p.m. ET 9/22/23.

Docket Numbers: ER23-2761-000.

Applicants: Public Service Company of Colorado.

Description: Tariff Amendment: 2023-09-01 TSGT—Rifle SS LGIA—504—NOC to be effective 9/2/2023.

Filed Date: 9/1/23.

Accession Number: 20230901-5100.

Comment Date: 5 p.m. ET 9/22/23.

Docket Numbers: ER23-2762-000.

Applicants: Icon Energy LLC.

Description: Tariff Amendment: Notice of Cancellation to be effective 9/2/2023.

Filed Date: 9/1/23.

Accession Number: 20230901-5121.

Comment Date: 5 p.m. ET 9/22/23.

Docket Numbers: ER23-2763-000.

Applicants: PJM Interconnection, L.L.C.

Description: § 205(d) Rate Filing: Designated Entity Agreement, SA No. 7060 between PJM and PSE&G to be effective 8/4/2023.

Filed Date: 9/1/23.

Accession Number: 20230901-5124.

Comment Date: 5 p.m. ET 9/22/23.

Docket Numbers: ER23-2764-000.

Applicants: Northeastern Power & Gas, LLC.

Description: Baseline eTariff Filing: Application for Market-Based Rate Authorization, Request for Related Waivers to be effective 9/25/2023.

Filed Date: 9/1/23.

Accession Number: 20230901-5149.

Comment Date: 5 p.m. ET 9/22/23.

Docket Numbers: ER23-2765-000.

Applicants: SunZia Transmission, LLC.

Description: § 205(d) Rate Filing: Amended & Restated Transmission Service Agreement w/SunZia Wind PowerCo LLC to be effective 11/1/2023.

Filed Date: 9/1/23.

Accession Number: 20230901-5171.

Comment Date: 5 p.m. ET 9/22/23.

Take notice that the Commission received the following electric securities filings:

Docket Numbers: ES23-67-000.

Applicants: Basin Electric Power Cooperative.

Description: Application Under Section 204 of the Federal Power Act for Authorization to Issue Securities of Basin Electric Power Cooperative.

Filed Date: 8/31/23.

Accession Number: 20230831-5278.

Comment Date: 5 p.m. ET 9/21/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: September 1, 2023.
Debbie-Anne A. Reese,
Deputy Secretary.

[FR Doc. 2023-19417 Filed 9-7-23; 8:45 am]

BILLING CODE 6717-01-P